DEPARTMENT OF HEALTH AND HUMAN SERVICES

Centers for Disease Control and Prevention

[60Day-12-12EX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research for the Development of CDC's Act Against AIDS Social Marketing Campaigns Targeting Consumers—New—National Center for HIV/AIDS, Viral Hepatitis, STD, and TB Prevention (NCHHSTP), Centers for Disease Control and Prevention (CDC).

Background and Brief Description

More than 1 million people are estimated to be living with Human Immunodeficiency Virus (HIV) in the United States. Estimates of HIV incidence released by the CDC indicate that 56,300 people became infected with HIV in 2006. HIV disproportionately affects men, particularly men who have sex with men (MSM) and African-American men. HIV is also a real threat to other communities at high risk such as the Hispanic/Latino community.

In response to the continued HIV epidemic in our country, CDC launched Act Against AIDS (AAA) in 2009, a 5-year, multifaceted communication campaign consisting of several campaigns targeting various high-risk populations. The overall goals of AAA are to increase HIV/AIDS awareness and reduce HIV incidence in the United States. Each AAA campaign uses mass media and direct-to-consumer channels to deliver HIV prevention, awareness, and testing messages. Some campaigns are designed to provide basic education and increase awareness of HIV/AIDS among the general public, and others are targeted to specific subgroups or communities at greatest risk for HIV infection, including MSM, African Americans, HIV-positive individuals and other minority populations.

As part of the overarching AAA campaign, CDC requests OMB approval to collect information from consumer groups over a three-year period. This study will encompass four rounds of data collection utilizing interviews, focus groups, and brief surveys. The results from this data collections will be used to develop AAA's social marketing campaigns designed to increase HIV/AIDS awareness and knowledge, understand HIV prevention behaviors, improve HIV testing rates, challenge commonly held misperceptions about HIV, and promote HIV prevention and risk reduction among consumers. The research results will be used to develop materials for six specific HIV social marketing campaigns under the umbrella of the larger Act Against AIDS campaign. The campaigns will target consumers aged 18-64. Some campaigns will target the general public as a whole and other campaigns will focus on specific subpopulations at greatest risk for HIV infection. The target audiences will include Latinos, men who have sex with men (MSM), HIV-positive individuals and African Americans. These data will assist CDC in addressing the HIV prevention needs of specific campaign audiences and make appropriate funding decisions regarding campaign development or campaign direction.

Respondents will be members of the targeted consumer groups aged 18-64 recruited from areas with high HIV/AIDS prevalence and incidence such as New York, NY; Los Angeles, CA; Washington, DC; Chicago, IL; Atlanta, GA; Miami, FL; Philadelphia, PA; Houston, TX; San Francisco, CA; Baltimore, MD; Dallas, TX or other cities as appropriate. Respondents for this data collection will participate in a focus group, in-depth interview, or intercept interview. Focus group and in-depth interview respondents will be recruited by professional recruiting firms. The professional recruiting firms will utilize a proprietary database of individuals who have agreed to be contacted for potential participation in various studies. Project staff will recruit intercept interview respondents in venues where the general public tend to gather, such as health fairs or other community events.

Information collection will begin after receiving approval and end three years from approval. The study will screen 1,538 people per year for eligibility. Of the 1,538 people screened, it is expected that 500 people will participate in focus groups, 500 people will participate in in-depth interviews. All focus group and in-depth interview participants will complete a brief paper and pencil survey. Seven hundred people will participate in intercept interviews. The total estimated burden for this one-time data collection is 6,852 hours. Annualizing this information over 3 years results in an estimated annualized burden of 2,284 hours.

There are no costs to respondents other than their time.

Estimated Annualized Burden Hours
Respondents | Form name | No. of respondents | No. of responses per respondent | Average burden per response (in hours) | Total burden hours
Individuals (males and females) aged 18-64 | Study screener | 1,538 | 1 | 2/60 | 51
Individuals (males and females) aged 18-64 | In-Depth Interview Guide | 500 | 1 | 60/60 | 500
Individuals (males and females) aged 18-64 | Focus Group Guide | 500 | 1 | 120/60 | 1,000
Individuals (males and females) aged 18-64 | Paper and Pencil Survey | 1,000 | 1 | 30/60 | 500
Individuals (males and females) aged 18-64 | Intercept Interview Guide | 700 | 1 | 20/60 | 233
Total |  |  |  |  | 2,284

Kimberly S. Lane,
Deputy Director, Office of Science Integrity, Office of the Associate Director for Science, Office of the Director, Centers for Disease Control and Prevention.

[FR Doc. 2012-5494 Filed 3-6-12; 8:45 am]

BILLING CODE 4163-18-P